DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Substance Abuse Treatment (CSAT) announces the availability of FY 2001 funds for grants for the following activity. This notice is not a complete description of the activity; potential applicants must obtain a copy of the Program Announcement, including Part I, Implementation of Community-Based Practice/Research Collaboratives, and Part II, General Policies and Procedures Applicable to all SAMHSA Applications for Discretionary Grants and Cooperative Agreements, before preparing and submitting an application.

Activity | Application deadline | Est. funds FY 2001 | Est. No. of awards | Project period
Implementation of Community-Based Practice/Research Collaboratives | May 4, 2001 | $2,400,000 | 6-7 | 3 years

The actual amount available for the award may vary, depending on unanticipated program requirements and the number and quality of applications received. FY 2001 funds for the activity discussed in this announcement were appropriated by the Congress under Public Law 106-310. SAMHSA's policies and procedures for peer review and Advisory Council review of grant and cooperative agreement applications were published in the Federal Register (Vol. 58, No. 126 page 35962) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345. Telephone: 1-800-729-6686.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA) Center for Substance Abuse Treatment (CSAT) announces the availability of cooperative agreements to support the implementation of Practice/Research Collaboratives, hereinafter referred to as PRCs. This announcement solicits applications for cooperative agreements to implement the practice/research agenda that has been developed by community based stakeholders who are members of a Practice/Research Collaborative. Project support will enable grantees to build a self sustaining infrastructure, conduct studies which address PRC defined needs, and apply evidence based practices in community based treatment settings.

The overall purpose of the PRC program is to improve the quality of substance abuse treatment by increasing interaction and knowledge exchange among key community based stakeholders, including substance abuse treatment providers, researchers, policy makers, and a consumer representative. Prior to the Implementation Phase of the program, it is expected that the PRCs will have developed the necessary infrastructure to implement and evaluate the use of evidence based practices in community settings. Through these efforts, the PRCs will be able, over time, to make significant contributions to the field's knowledge and understanding about substance abuse treatment.

The PRC program is comprised of two types of grants: developmental grants and implementation cooperative agreements. In Fiscal Year 1999, the PRC program solicited applications for Developmental Grants under GFA TI 99-006. This announcement is a reissuance (with revisions) of the Fiscal Year 2000 GFA, TI 00-004, and is a solicitation for implementation grants only.

Eligibility: Applications for Implementation Cooperative Agreements may be submitted by domestic public and private nonprofit entities, such as community-based organizations, public or private universities, colleges, and hospitals, units of State or local government, and Indian Tribes and tribal organizations.

In order to accomplish the goals of the Phase II PRC Implementation Program, applicants must have an infrastructure in place. Therefore, applicants must provide written evidence that:

• An operational, community based PRC has been established in which providers participate as full partners with researchers, policy makers, a consumer representative, and other stakeholder groups;

• A formal organizational structure and statement of operating procedures, roles and responsibilities of stakeholder members and designated consumer representative have been developed and endorsed by stakeholder groups; and

• A formal needs assessment of PRC stakeholders has been conducted.

Availability of Funds: It is estimated that $2.4 million will be available to support approximately 6-7 awards under this GFA in FY 2001. Awards are expected to range from $300,000-$400,000 per year in total costs (direct+indirect).

Period of Support: Support may be requested for a period of up to three years. Annual awards will be made subject to continued availability of funds and progress achieved.

Criteria for Review and Funding:

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Frances Cotter, Project Officer, Office of Managed Care, Center for Substance Abuse Treatment, Substance Abuse and Mental Health Services Administration, Rockwall II, Suite 740, 5600 Fishers Lane, Rockville, MD 20857, (301) 443-8796.

For questions regarding grants management issues, contact: Kathleen Sample, Division of Grants Management, OPS, Substance Abuse and Mental Health Services Administration, Rockwall II, Suite 630, 5600 Fishers Lane, Rockville, Maryland 20857, (301) 443-8926.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: January 31, 2001.
Richard Kopanda,
Executive Officer, SAMHSA.

[FR Doc. 01-3123 Filed 2-6-01; 8:45 am]

BILLING CODE 4162-20-P